FEDERAL RESERVE SYSTEM

Agency Information Collection Activities: Announcement of Board Approval Under Delegated Authority and Submission to OMB

AGENCY: Board of Governors of the Federal Reserve System.

SUMMARY: The Board of Governors of the Federal Reserve System (Board) is adopting a proposal to extend for three years, without revision, the Policy Impact Survey (FR 3075; OMB No. 7100-0362).

FOR FURTHER INFORMATION CONTACT: Federal Reserve Board Clearance Officer—Nuha Elmaghrabi—Office of the Chief Data Officer, Board of Governors of the Federal Reserve System, nuha.elmaghrabi@frb.gov, (202) 452-3884.

Office of Management and Budget (OMB) Desk Officer for the Federal Reserve Board, Office of Information and Regulatory Affairs, Office of Management and Budget, New Executive Office Building, Room 10235, 725 17th Street NW, Washington, DC 20503, or by fax to (202) 395-6974.

SUPPLEMENTARY INFORMATION: On June 15, 1984, OMB delegated to the Board authority under the Paperwork Reduction Act (PRA) to approve and assign OMB control numbers to collections of information conducted or sponsored by the Board. Board-approved collections of information are incorporated into the official OMB inventory of currently approved collections of information. The OMB inventory, as well as copies of the PRA Submission, supporting statements (which contain more detailed information about the information collections and burden estimates than this notice), and approved collection of information instrument(s) are available at https://www.reginfo.gov/public/do/PRAMain. These documents are also available on the Federal Reserve Board's public website at https://www.federalreserve.gov/apps/reportingforms/review or may be requested from the agency clearance officer, whose name appears above. On the page displayed at the link above, you can find the supporting information by referencing the collection identifier, FR 3075.

Final Approval Under OMB Delegated Authority of the Extension for Three Years, Without Revision, of the Following Information Collection

Collection title: Policy Impact Survey.

Collection identifier: FR 3075.

OMB control number: 7100-0362.

General description of collection: The Policy Impact Survey collects information from certain types of institutions regulated by the Board in order to assess the effects of proposed, pending, or recently adopted policy changes at the domestic and international levels. The Board uses the survey to collect information used for certain quantitative impact studies sponsored by financial stability bodies such as the Basel Committee on Banking Supervision and the Financial Stability Board. Recent collections have included the Basel III monitoring exercise, which monitors the global impact of the Basel III framework, the global systemically important bank exercise, which assesses firms' systemic risk profiles, and a survey of the domestic systemic risk footprint of large foreign banking organizations. Since the collected data may change from survey to survey, there is no fixed reporting form.

Frequency: On occasion.

Respondents: Bank holding companies, savings and loan holding companies, nonbank financial companies, and foreign banking organizations.

Total estimated number of respondents: 14.

Estimated average hours per response: 700.

Total estimated annual burden hours: 68,600.

Current actions: On October 2, 2024, the Board published a notice in the Federal Register (89 FR 80242) requesting public comment for 60 days on the extension, without revision, of the FR 3075. The comment period for this notice expired on December 2, 2024. The Board did not receive any comments.

Board of Governors of the Federal Reserve System, February 4, 2025.
Benjamin W. McDonough,
Deputy Secretary and Ombuds of the Board.

[FR Doc. 2025-02361 Filed 2-6-25; 8:45 am]

BILLING CODE 6210-01-P